DEPARTMENT OF VETERANS AFFAIRS

VA New Hampshire Vision 2025 Task Force; Notice of Meeting

The Department of Veterans Affairs (VA) gives notice under the Federal Advisory Committee Act that the VA New Hampshire Vision 2025 Task Force, which is a subcommittee of the Special Medical Advisory Group (SMAG), will meet October 31, 2017 from 8:00 a.m.-5:00 p.m. ET and November 1, 2017 from 8:00 a.m.-12:30 p.m. ET at the Department of Veterans Affairs, Manchester VA Medical Center, 718 Smyth Road Manchester, NH 03104, Building 1, 1st Floor, Training & Education Room. The meeting is open to the public. No video or audio recording will be authorized without prior permission from the Designated Federal Officer.

The purpose of the Subcommittee is to develop a comprehensive set of options and recommendations to develop a future vision of what VA must do to best meet the needs of New Hampshire Veterans. The recommendations will be reviewed by the SMAG and then those final recommendations will be forwarded to the Secretary and Under Secretary for Health for decision and action.

The agenda may include updates regarding focus groups, data review, and health care delivery research for various service lines and greater New Hampshire health care market. No time will be allocated at this meeting for receiving oral presentations from the public. However, the public may submit written statements for the Subcommittee's review to Brenda Faas, Designated Federal Officer, Department of Veterans Affairs at Brenda.Faas@va.gov, or Thomas Pasakarnis, Alternate Designated Federal Officer, Department of Veterans Affairs at Thomas.Pasakarnis@va.gov. Any member of the public wishing to attend the meeting or seeking additional information should contact Mr. Pasakarnis.

Because the meeting will be held in a federal government building, anyone attending must be prepared to show a valid photo government issued ID. Please allow 15 minutes before the meeting begins for this process.

Dated: October 11, 2017.
LaTonya L. Small,
Federal Advisory Committee Management Officer.

[FR Doc. 2017-22375 Filed 10-16-17; 8:45 am]

BILLING CODE 8320-01-P